NUCLEAR REGULATORY COMMISSION

[Docket No. 40-8943]

Notice of Availability of Environmental Assessment and Finding of No Significant Impact for License Amendment for Crow Butte Resources, Inc., Crawford, NE

AGENCY: U.S. Nuclear Regulatory Commission.

ACTION: Notice of availability.

FOR FURTHER INFORMATION CONTACT: Stephen J. Cohen, Project Manager, Uranium Recovery Licensing Branch, Division of Waste Management and Environmental Protection, Office of Federal and State Materials and Environmental Management Programs, U.S. Nuclear Regulatory Commission, Washington, DC 20555-0001. Telephone: (301) 415-7182; fax number: (301) 415-5369; e-mail: sjc7@nrc.gov.

SUPPLEMENTARY INFORMATION:

I. Introduction

The U.S. Nuclear Regulatory Commission (NRC) is issuing a license amendment to Material License No. SUA-1534, issued to Crow Butte Resources, Inc. (the licensee), to authorize an upgrade to the central processing plant (CPP) and an increase in the CPP flow rate at its main in situ leach (ISL) facility near Crawford, Nebraska. NRC has prepared an Environmental Assessment (EA) in support of this amendment in accordance with the requirements of 10 CFR Part 51. Based on the EA, the NRC has concluded that a Finding of No Significant Impact is appropriate. The amendment will be issued following the publication of this Notice.

II. EA Summary

The purpose of the proposed amendment is to authorize an upgrade to the CPP and increase the plant flow rate at the licensee's Crawford, Nebraska, facility. Specifically, the licensee is authorized to install a maximum of six ion exchange columns and four ancillary tanks that would support a plant flow rate increase of 4,000 gallons per minute (gpm). The total allowable plant flow rate will increase to 9,000 gpm. On October 17, 2006, the licensee requested that NRC approve the proposed amendment.

The staff has prepared the EA in support of the proposed license amendment. The staff considered impacts to water resources, public and occupational exposures, socio-economic conditions, endangered and threatened fauna and flora, historic and cultural resources, geology, soils, transportation, and air quality. This licensing action involves installing new equipment within the existing footprint of the CPP. Consequently, no building construction or surface disturbance is required to implement this action. Furthermore, the licensee will not open any new wellfields as a result of this licensing action, beyond those currently addressed by its license. The staff, therefore, does not expect the proposed action to impact geology, surface water, endangered and threatened fauna and flora, transportation, and historic and cultural resources.

NRC staff also does not expect significant environmental impacts to groundwater, socio-economic conditions, soil, air quality, and public and occupational exposures. The use of pressurized downflow columns minimizes the releases of radon, thus, no significant impacts to air quality or public and occupational exposures are expected. Also, the licensee maintains procedures for cataloging and addressing system leaks, which minimizes the impacts of such occurrences; therefore, no significant impacts to groundwater and soils are expected. No significant impacts to socio-economic conditions are expected because implementing this action would not result in significant staff increases.

III. Finding of No Significant Impact

On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC(s public documents. The ADAMS accession numbers for the documents related to this notice are:

Document title | Date | Accession number
Request for License Amendment for Plant Upgrade | October 17, 2006 | ML063390348
License Amendment for Plant Upgrade, Response to Request for Additional Information | April 27, 2007 | ML071290026
NRC Inspection Report | September 8, 2006 | ML062540084
NRC Environmental Assessment for Renewal of Source Materials License No. SUA-1534 | February 1998 | ML071520242
Environmental Assessment for the Plant Upgrade | October 23, 2007 | ML072360287
NRC Request for Additional Information | September 8, 2006 | ML070540341

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, Maryland, this 24th day of October, 2007.
For the Nuclear Regulatory Commission.
Stephen J. Cohen,
Project Manager, Uranium Recovery Licensing Branch, Decommissioning and Uranium Recovery Licensing Directorate, Division of Waste Management and Environmental Protection, Office of Federal and State Materials and Environmental Management Programs.

[FR Doc. E7-21429 Filed 10-30-07; 8:45 am]

BILLING CODE 7590-01-P